DEPARTMENT OF HOMELAND SECURITY

Coast Guard

33 CFR Part 117

[Docket No. USCG-2016-0948]

Drawbridge Operation Regulation; Newtown Creek, Brooklyn and Queens, NY

AGENCY: Coast Guard, DHS.

ACTION: Notice of deviation from drawbridge regulation.

SUMMARY: The Coast Guard has issued a temporary deviation from the operating schedule that governs the Pulaski Bridge across the Newtown Creek, mile 0.6, between Brooklyn and Queens, New York. This deviation is necessary to allow the bridge owner to perform span locks adjustment at the bridge.

DATES: This deviation is effective from 12:01 a.m. on November 8, 2016 to 5 a.m. on December 2, 2016.

ADDRESSES: The docket for this deviation, [USCG-2016-0948] is available at http://www.regulations.gov. Type the docket number in the “SEARCH” box and click “SEARCH”. Click on Open Docket Folder on the line associated with this deviation.

FOR FURTHER INFORMATION CONTACT: If you have questions on this temporary deviation, call or email Judy Leung-Yee, Project Officer, First Coast Guard District, telephone (212) 514-4330, email judy.k.leung-yee@uscg.mil.

SUPPLEMENTARY INFORMATION: The Pulaski Bridge, mile 0.6, across the Newtown Creek, has a vertical clearance in the closed position of 39 feet at mean high water and 43 feet at mean low water. The existing bridge operating regulations are found at 33 CFR 117.801(g)(1).

The waterway is transited by commercial barge traffic of various sizes.

The bridge owner, New York City DOT, requested a temporary deviation from the normal operating schedule to perform span locks adjustment at the bridge.

Under this temporary deviation, the Pulaski Bridge shall remain in the closed position as follows:

November 8, 2016 between 12:01 a.m. and 5 a.m.

November 9, 2016 between 12:01 a.m. and 5 a.m.

November 10, 2016 between 12:01 a.m. and 5 a.m.

November 11, 2016 between 12:01 a.m. and 5 a.m.

November 15, 2016 between 12:01 a.m. and 5 a.m.

November 16, 2016 between 12:01 a.m. and 5 a.m.

November 17, 2016 between 12:01 a.m. and 5 a.m.

November 18, 2016 between 12:01 a.m. and 5 a.m.

November 22, 2016 between 12:01 a.m. and 5 a.m.

November 23, 2016 between 12:01 a.m. and 5 a.m.

November 24, 2016 between 12:01 a.m. and 5 a.m.

November 25, 2016 between 12:01 a.m. and 5 a.m.

November 29, 2016 between 12:01 a.m. and 5 a.m.

November 30, 2016 between 12:01 a.m. and 5 a.m.

December 1, 2016 between 12:01 a.m. and 5 a.m.

December 2, 2016 between 12:01 a.m. and 5 a.m.

Vessels able to pass under the bridge in the closed position may do so at anytime. The bridge will not be able to open for emergencies and there is no immediate alternate route for vessels to pass.

The Coast Guard will inform the users of the waterways through our Local Notice and Broadcast to Mariners of the change in operating schedule for the bridge so that vessel operations can arrange their transits to minimize any impact caused by the temporary deviation. The Coast Guard notified known companies of the commercial oil and barge vessels in the area and they have no objections to the temporary deviation.

In accordance with 33 CFR 117.35(e), the drawbridge must return to its regular operating schedule immediately at the end of the effective period of this temporary deviation. This deviation from the operating regulations is authorized under 33 CFR 117.35.

Dated: October 26, 2016.
C.J. Bisignano,
Supervisory Bridge Management Specialist, First Coast Guard District.

[FR Doc. 2016-26235 Filed 10-28-16; 8:45 am]

BILLING CODE 9110-04-P